DEPARTMENT OF AGRICULTURE

Forest Service

Transfer of Administrative Jurisdiction: Joint Readiness Training Center (JRTC), Fort Polk Military Reservation Interchange and the Kisatchie National Forest, LA

AGENCY: Forest Service, USDA.

ACTION: Notice of joint interchange of lands.

SUMMARY: The Act of July 26, 1956 (70 Stat. 656; 16 U.S.C. 505a-b) authorizes the interchange of land between the Department of Agriculture and the Department of Defense through its various services. On August 10, 2004, and November 12, 2004, respectively, the Secretary of the Army and the Secretary of Agriculture signed a Joint Order authorizing the transfer of administrative jurisdiction from the Department of Agriculture to the Department of the Army of 480.00 acres, more or less, located in Natchitoches Parish, Louisiana and generally described as: Parts of Sections 26, 28, 30, 34, and 35, Township 5 North, Range 8 West, Louisiana Meridian, lying within the Joint Readiness Training Center (JRTC), Fort Polk Military Reservation, and the Kisatchie National Forest and more particularly described according to the map and legal description on file in the Forest Service office noted in the ADDRESSES section of this notice.

Furthermore, the Joint Order transfers from the Department of the Army to the Department of Agriculture for inclusion in the Kisatchie National Forest 481.33 acres, more or less, located in Vernon Parish, Louisiana, and generally described as: Parts of Section 18 and 34, Township 1 North, Range 6 West, Louisiana Meridian, being 120 acres, more or less; Parts of Sections 16 and 32, Township 1 North, Range 5 West, Louisiana Meridian, being 51.33 acres, more or less; Parts of Sections 32 and 33, Township 1 North, Range 8 West, Louisiana Meridian, being 310 acres, more or less, within the boundaries of the Kisatchie National Forest, and more particularly described according to the map and legal description on file in the Forest Service office noted in the ADDRESSES section of this notice. A copy of the Joint Order is set out at the end of this notice.

EFFECTIVE DATE: The 45-day Congressional oversight requirement of the Act of July 26, 1956 has been met. The Joint Order is effective January 28, 2005.

ADDRESSES: Copies of the maps with adjoining legal descriptions showing the lands included in this joint interchange are on file and available for public inspection in the Office of the Director of Lands, 4th Floor South, Sidney R. Yates Federal Building, Forest Service, USDA, 201 14th Street, SW., Washington, DC 20250, between the hours of 8:30 a.m. and 4:30 p.m. on business days. Those wanting to inspect the maps with adjoining legal descriptions are encouraged to call ahead to (202) 205-1248 to facilitate entry into the building.

FOR FURTHER INFORMATION CONTACT: A.L. Richard, Lands Staff, at (202) 205-1792. Individuals who use telecommunication devices for the deaf (TDD) may call the Federal Relay Service (FRS) at 1-800-877-8339 twenty-four hours a day, every day of the year, including holidays.

Dated: January 25, 2005.
Gloria Manning,
Associate Deputy Chief.

Department of the Army

Department of Agriculture

Fort Polk, Louisiana Joint Order; Interchanging Administrative Jurisdiction of Department of the Army Lands and National Forest System Lands

By virtue of the authority vested in the Secretary of the Array and the Secretary of Agriculture by the Act of July 26, 1956 (70 Stat. 656; 16 U.S.C. 505a) it is ordered as follows:

1. The lands under the jurisdiction of the Department of the Army described in Exhibit A and shown on the attached maps which are on file and available for public inspection in the Office of the Chief, U.S. Department of Agriculture (USDA), Forest Service, Washington, DC, which lie within the boundary of Joint Readiness Training Center (JRTC) and Fort Folk's military reservation, Vernon and Natchitoches Parishes, Louisiana, are hereby transferred from the jurisdiction of the Secretary of the Army to the jurisdiction of the Secretary of Agriculture, subject to outstanding rights or interests of record.

2. The lands under the jurisdiction of the USDA Forest Service described in Exhibit B and shown on the attached map which are on file and available for public inspection in the Office of the Chief, USDA Forest Service, Washington, DC, which lie within the Kisatchie National Forest (KNF), Louisiana, are hereby transferred from the jurisdiction of the Secretary of Agriculture to the jurisdiction of the Secretary of the Army, subject to outstanding rights or interests of record.

3. Pursuant to Section 2 of the aforementioned Act of July 26, 1956, the National Forest lands transferred to the Secretary of Army by this Joint Interchange order, are hereby subject only to the laws applicable to the Department of the Army lands comprising JRTC and Fort Polk, Louisiana. The Department of the Army lands transferred to the Secretary of Agriculture by this order are hereafter subject only to the laws applicable to lands acquired under the Act of March 1, 1911 (36 Stat. 961) as amended.

4. After the effective date of this Joint Interchange Order, the Department of the Army shall remain responsible for the response to any ordnance, explosives, hazardous substances, or pollutants or contaminants discovered on the lands described in Exhibits A and B, that are the result of past Army operations on those lands or that occurred during the Army's administration of those lands.

This joint Interchange Order will be effective as of the date of publication in the Federal Register.

Dated: August 10, 2004.
R.L. Brownlee,
Acting Secretary of the Army.
Dated: November 12, 2004.
Ann M. Veneman,
Secretary of Agriculture.

[FR Doc. 05-1623 Filed 1-27-05; 8:45 am]

BILLING CODE 3410-11-P